DEPARTMENT OF JUSTICE

Notice of Lodging of Consent Decree Under the Comprehensive Environmental Response, Compensation, and Liability Act

Notice is hereby given that on September 28, 2007, a proposed Consent Decree in United States v. Gould Electronics Inc., Civil Action No. 07-4645, was lodged with the United States District Court for the District of New Jersey.

The United States' Complaint in the case alleges that Gould Electronics Inc. (“Gould Electronics”) is liable to the United States under Section 107(a) of CERCLA, 42 U.S.C. 9607(a) at the Magic Marker Superfund Site in Trenton, New Jersey. The Consent Decree settles the claims of the United States, on behalf of EPA, asserted in the Complaint. Pursuant to the Consent Decree, Gould Electronics and a contribution defendant, Ford Motor Company, will together pay $285,000 in reimbursement of response costs incurred or to be incurred by EPA.

On September 28, 2007, the United States also filed a “Stipulation Between the United States and Exide Technologies Concerning Magic Marker Site and Proof of Claim” (“Stipulation”) in the bankruptcy proceeding In re Exide Technologies, et al., 02-11125 (Bank. Del). Pursuant to this Stipulation, the United States will withdraw its claim filed in that bankruptcy proceeding with respect to the Magic Marker Superfund Site. The Stipulation was filed contemporaneously with a stipulation between Gould Electronics and Exide Technologies providing Gould Electronics with an allowed claim against Exide Technologies in the bankruptcy proceeding. If the Consent Decree is not entered by the court, the Stipulation shall be null and void

The Department of Justice will receive for a period of thirty (30) days from the date of this publication comments relating to the Consent Decree and/or the Stipulation. Comments should be addressed to the Assistant Attorney General, Environment and Natural Resources Division, and either e-mailed to pubcomment-ees.enrd@usdoj.gov or mailed to P.O. Box 7611, U.S. Department of Justice, Washington, DC 20044-7611, and should refer to United States v. Gould Electronics Inc., D.J. Ref. 90-11-3-07371.

The Consent Decree may be examined at the Office of the United States Attorney, Peter Rodino Federal Building, 970 Broad Street, Newark, New Jersey 07102, and at U.S. EPA Region 2, 290 Broadway, New York, NY 10007. During the public comment period, the Consent Decree and Stipulation may also be examined on the following Department of Justice Web site, to http://www.usdoj.gov/enrd/Consent_Decrees.html. A copy of the Consent Decree and/or the Stipulation may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury or, if by e-mail or fax, forward a check in that amount to the Consent Decree Library at the stated address.

Ronald Gluck,
Assistant Chief, Environmental Enforcement Section, Environment and Natural Resources Division.

[FR Doc. 07-5128 Filed 10-16-07; 8:45 am]

BILLING CODE 441075-M